GENERAL SERVICES ADMINISTRATION

Privacy Act of 1974; Establishment of a New Record System, Purchase Card Program (GSA/PPFM-10).

AGENCY: General Services Administration.

ACTION: Notice of a new system of records subject to the Privacy Act of 1974.

SUMMARY: The General Services Administration (GSA) is providing notice of the establishment of the new record system, Purchase Card Program (GSA/PPFM-10). The system will collect and maintain information on purchases by employees who apply for and qualify to use a government purchase card for official business. System information will be used to operate, control, and manage the purchase card program. The new system implements measures that will result in more timely purchases and payments and on processing costs.

DATES: Comments on the new system must be provided by August 27, 2001. The new system will become effective without further notice on August 27, 2001 unless comments dictate otherwise.

ADDRESSES: Address comments to: Director, Financial Initiative Division (BCD), Office of Finance, Office of the Chief Information Officer, General Services Administration, 1800 F Street, NW, Washington, DC 20405; or to GSA Privacy Act Officer, General Services Administration, CAI, 1800 F Street, NW, Washington, DC 20405.

FOR FURTHER INFORMATION CONTACT: Paul Taylor at the above address, or telephone (202) 501-4991.

GSA/PPFM-10

SYSTEM NAME:

Purchase Card Program.

SYSTEM LOCATION:

System records are maintained by the Office of Finance, General Services Administration (GSA), at 1800 F Street, NW, Washington DC 20405, and by designated purchase card coordinators' offices in GSA regions. Contact the System Manager for additional information.

CATEGORIES OF INDIVIDUALS COVERED BY THE SYSTEM:

The system includes employees of GSA, and of independent offices and commissions serviced by GSA, who qualify to use Government charge cards for making authorized purchases for official business.

CATEGORIES OF RECORDS IN THE SYSTEM:

The system provides control over expenditure of funds through the use of Government purchase cards. System records include:

a. Personal information on charge card users, including names, home or business telephone numbers and addresses, Social Security Numbers, and employment information; and

b. Account processing and management information, including charge card transactions, contractor monthly reports showing charges to individual account numbers, account balances, and other data needed to authorize, account for, and pay authorized purchase card expenses.

AUTHORITIES FOR MAINTENANCE OF THE SYSTEM:

Federal Acquisition Regulation (FAR), Part 13, 48 CFR part 13, and Public Law 93-579 section 7(b).

PURPOSES:

To establish and maintain a system for operating, controlling, and managing the purchase card program involving commercial purchases by authorized government employees.

ROUTINE USES OF THE SYSTEM RECORDS, INCLUDING CATEGORIES OF USERS AND THEIR PURPOSE FOR USING THE SYSTEM:

System information may be accessed and used by authorized GSA employees or contractors to conduct duties associated with the management and operation of the purchase card program.

Information from this system also may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To duly authorized officials engaged in investigating or settling a grievance, complaint, or appeal filed by an individual who is the subject of the record.

d. To the Office of Personnel Management (OPM) and the General Accounting Office when the information is required for evaluation of the program.

e. To a Member of Congress or his or her staff on behalf of and at the request of the individual who is the subject of the record.

f. To an expert, consultant, or contractor of GSA in the performance of a Federal duty to which the information is relevant.

g. To the GSA Office of Finance for debt collection purposes (see GSA/PPFM-7).

h. To the National Archives and Records Administration (NARA) for records management inspections conducted under 44 U.S.C. 2904 and 2906.

POLICIES AND PRACTICES FOR STORING, RETRIEVING, ACCESSING, RETAINING, AND DISPOSING OF SYSTEM RECORDS:

STORAGE:

Information may be collected on paper or electronically and may be stored on paper or on electronic media, as appropriate.

RETRIEVABILITY:

Records are retrievable by a personal identifier or by other appropriate type of designation approved by GSA.

SAFEGUARDS:

Systems records are safeguarded in accordance with the requirements of the Privacy Act, the Computer Security Act, and OMB Circular A-130. Technical, administrative, and personnel security measures are implemented to ensure confidentiality and integrity of the system data stored, processed, and transmitted. Paper records are stored in secure cabinets or rooms. Electronic records are protected by passwords and other appropriate security measures.

RETENTION AND DISPOSAL:

Disposition of records is according to the National Archives and Records Administration (NARA) guidelines, as set forth in the handbook, GSA Records Maintenance and Disposition System (OAD P 1820.2), and authorized GSA records schedules.

SYSTEM MANAGER(S) AND ADDRESS:

Director, Financial Initiative Division (BCD), Office of Finance, Office of the Chief Financial Officer, General Services Administration, 1800 F Street, NW., Washington, DC 20405.

NOTIFICATION PROCEDURE:

A Privacy Act Statement on the purchase card data collection form notifies individuals of the purpose and uses of the information they provide. Employees may obtain information about whether they are a part of this system of records from the system manager at the above address.

RECORD ACCESS PROCEDURES:

Requests from individuals for access to their records should be addressed to the system manager.

CONTESTING RECORD PROCEDURES:

GSA rules for access to systems of records, contesting the contents of systems of records, and appealing initial determinations are published in the Federal Register, 41 CFR part 105-64.

RECORD SOURCE CATEGORIES:

Information is obtained from individuals submitting charge card applications, monthly contractor reports, purchase records, managers, other agencies, non-Federal sources such as private firms, and other agency systems containing information pertaining to the purchase card program.

Dated: June 20, 2001.
Daniel K. Cooper,
Director, Information Management and Administrative Policy Division, General Services Administration.

[FR Doc. 01-18801 Filed 7-26-01; 8:45 am]

BILLING CODE 6820-34-M